DEPARTMENT OF THE INTERIOR

Bureau of Land Management

[LLMT930000 L16100000 DS0000 LXSS036E0000 19X]

Notice of Intent for the Potential Amendment to the Approved Resource Management Plan for the Miles City Field Office, Montana, and To Prepare an Associated Supplemental Environmental Impact Statement

AGENCY: Bureau of Land Management, Interior.

ACTION: Notice of intent.

SUMMARY: In accordance with the National Environmental Policy Act of 1969, as amended (NEPA), and the Federal Land Policy and Management act of 1976, as amended (FLPMA), the Bureau of Land Management (BLM), Miles City Field Office, Miles City, Montana, intends to prepare a Supplemental Environmental Impact Statement (EIS) and potential amendment for the 2015 Miles City Field Office Approved Resource Management Plan (RMP). The Supplemental EIS is in response to a United States District Court, District of Montana, opinion and order (Western Organization of Resource Councils, et al vs BLM). This notice announces the beginning of the scoping process to solicit public comments and identify issues presented in the opinion and order.

DATES: To ensure that comments will be considered, the BLM must receive written comments by December 28, 2018. The BLM will announce a public scoping meeting through local news media, newsletters, e-Planning, and the BLM website https://www.blm.gov/montana-dakotas at least 15 days prior to the meeting. The BLM will provide additional opportunities for public participation upon publication of the Draft Supplemental EIS.

ADDRESSES: You may submit comments on issues, planning criteria, and resource information by any of the following methods:

• Website: https://go.usa.gov/xPv49.

• Mail: Miles City RMP Draft Supplemental EIS; Amy Waring, Supplemental EIS Project Manager; Montana/Dakotas State Office, 5001 Southgate Dr., Billings, MT 59101.

FOR FURTHER INFORMATION CONTACT: Amy Waring, Supplemental EIS Project Manager; telephone (406) 896-5095; email awaring@blm.gov; or at the mailing address or website listed earlier (see ADDRESSES). Persons who use a telecommunications device for the deaf (TDD) may call the Federal Relay Service (FRS) at 1-800-877-8339 to contact the above individuals during normal business hours. The FRS is available 24 hours a day, 7 days a week, to leave a message or question with the above individuals. You will receive a reply during normal business hours.

SUPPLEMENTARY INFORMATION: The Supplemental EIS is in response to a United States Montana District court opinion and order (Western Organization of Resource Councils, et al. vs BLM; CV 16-21-GF-BMM; 3/26/2018 and 7/31/2018).

In September 2015, the BLM approved the Record of Decision for the Approved RMPs and Amendments in the Rocky Mountain Region, which included the Montana Miles City Field Office. The 2015 Miles City Approved RMP provides a single, comprehensive land use plan that guides management of BLM-administered surface and mineral estate in the Miles City Field Office. The plan provides goals, objectives, land use allocations, and management direction for the BLM-administered surface and mineral estate based on multiple use and sustained yield, unless otherwise specified by law (FLPMA Sec. 102(c), 43 U.S.C. 1701 et seq.). The Miles City Field Office manages approximately 2.7 million surface acres and 10.6 million acres of Federal mineral estate across 17 counties in eastern Montana.

On March 26, 2018, the U.S. District Court concluded: (1) NEPA requires the BLM to consider an alternative that would decrease the amount of coal potentially available for leasing, which requires conducting new coal screening that considers climate change impacts to assess the amount of recoverable coal available in the Approved RMP, (2) The BLM must supplement the Miles City Final EIS with an analysis of the environmental consequences of downstream combustion of coal, oil, and gas open to development under the Approved RMP; and (3) The BLM must provide additional justification and analysis of global warming potential over an appropriate planning period consistent with evolving science.

The purpose of this public scoping process is to solicit public input that will influence the scope of the environmental analysis with respect to the three conclusions by the U.S. District Court.

There are currently five active coal mining operations in or adjacent to the planning area, four of which operate on Federal coal leases, and are administered by the BLM (Decker, Rosebud, Savage, and Spring Creek), and one mine (Absaloka) that operates entirely on two Indian coal leases. In addition, two additional mines are proposed, the Big Metal Mine (Indian reserves) and Otter Creek Mine (currently private reserves). The Miles City Field Office also authorizes a domestic coal license to a private individual in Fallon County for home heating.

The 2015 Approved RMP relied upon coal screening completed during two previous RMP revisions: Big Dry (1996) and Powder River (1985). These planning efforts identified approximately 68.38 billion tons of coal that are available for further consideration for coal leasing across the Miles City Field Office (62.20 billion tons in the Power River RMP and 6.18 billion tons of coal in the Big Dry RMP). A reasonable foreseeable development scenario (RFD) was developed for the Final EIS based upon the U.S. Energy Information Administration projections in order for specialists to analyze the potential effects related to Federal coal leasing. The RFD was based upon continued operations of the five existing mines, with no new mines being developed over the 20-year planning timeframe. The RFD did not consider leasing of the entire 68.38 billion tons of coal that may be available. The air quality analysis estimated annual emissions from the RFD estimate of 56.2 million tons of Federal and 26.8 million tons of non-Federal coal produced per year, based upon coal production limits prescribed in each associated Montana Air Quality Permit issued by the Montana Department of Environmental Quality for the five operating mines.

As defined in 43 CFR 3420.1-4, the four principal factors the BLM must consider for coal resource development during land use planning include:

1. Estimate coal development potential, and consider only those areas that have development potential for further consideration for leasing.

2. Apply the unsuitability criteria set out in 43 CFR subpart 3461 to the BLM-administered coal mineral estate to identify areas unsuitable for all, or certain stipulated methods of mining.

3. Consider multiple land use management conflicts which may eliminate coal deposits from further consideration for leasing to protect other resource values and land uses that are locally, regionally or nationally important or unique, that are not included in the unsuitability criteria.

4. Consult with qualified surface owners, as defined in 43 CFR 3400.0-5, whose lands overlie BLM-administered coal mineral estate to determine preference for or against mining by other than underground mining techniques.

Call for Coal and Other Resource Information

The BLM requests that industry, State and local governments, and the public interested in coal management in the planning area provide the BLM relevant coal resource data that can help inform this project. Specifically, the BLM requests information on the development potential (e.g., location, quality, and quantity) of BLM-administered coal mineral estate, and on surface resource values related to multiple use conflicts.

The purpose of this request is to assure that the planning effort has sufficient information and data to consider a reasonable range of resource uses, management options, and alternatives for management of the BLM-administered Federal coal mineral estate. The BLM will use this information to complete the Supplemental EIS and formulate alternatives that identify areas acceptable for further consideration for leasing.

Proprietary data marked as “Confidential” may be submitted in response to this request for coal and other resource information. Please submit all proprietary information submissions to the Montana/Dakotas State Director at the address listed above. The BLM will treat submissions marked as “Confidential” in accordance with the laws and regulations governing the confidentiality of such information.

Before including your address, phone number, email address, or other personal identifying information in your comment, you should be aware that your entire comment—including your personal identifying information—may be made publicly available at any time. While you can request us to withhold your personal identifying information from public review, BLM cannot guarantee that it will be able to do so.

(Authority: 43 CFR 1610.2(c) and 3420.1-2)

Jon K. Raby,
Acting State Director.

[FR Doc. 2018-25847 Filed 11-27-18; 8:45 am]

BILLING CODE 4310-DN-P